DEPARTMENT OF THE INTERIOR

National Park Service

National Register of Historic Places; Notification of Pending Nominations and Related Actions

Nominations for the following properties being considered for listing or related actions in the National Register were received by the National Park Service before November 1, 2008.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by December 4, 2008.

J. Paul Loether,
Chief, National Register of Historic Places/National Historic Landmarks Program.

CALIFORNIA

San Diego County

Torrey Pines Gilderport (Boundary Increase), 2800 Torrey Pines Scenic Dr., La Jolla, 08001160

FLORIDA

Escambia County

Sacred Heart Catholic Church, 716 N. 9th Ave., Pensacola, 08001161

ILLINOIS

Cook County

Chicago Federal Center, Entire block bounded by Dearborn, Jackson, Clark and Adams and the contiguous half-block E. of Dearborn, Chicago, 08001165

Hohf, Dr. Robert, House, 303 Sheridan Rd., Kenilworth, 08001166

O'Grady, Mr. J. William de Coursey, House, 149 Kenilworth Ave., Kenilworth, 08001167

South Shore Bungalow Historic District, (Chicago Bungalows MPS) Bounded roughly by S. Crandon Ave. on the E., E. 78th St. on the S., S. Clyde Ave. on the W., E. 75th St. on the N., Chicago, 08001168

Talman West Ridge Bungalow Historic District, (Chicago Bungalows MPS) bounded roughly by N. Campbell Ave., W. Devon Ave., N. Fairfield Ave., and W. Pratt Ave., Chicago, 08001169

Henry County

Rehnstrom, August and Margaretha, House, 418 Locust St., Andover, 08001170

Marion County

Centralia Elk's Lodge, The, 328 E. Broadway, Centralia, 08001171

IOWA

Black Hawk County

Rath Packing Company Administration Building, 1515 E. Sycamore St., 208-212 Elm St., Waterloo, 08001162

Mahaska County

Ulysses Simpson Grant Elementary School, 715 B Ave. E., Oskaloosa, 08001163

Poweshiek County

North Grinnell Historic District, Park to W., 6th Ave. to 11th Ave., Grinnell, 08001164

KANSAS

Brown County

Graham, Steward, House, 115 Miami St., Hiawatha, 08001172

Franklin County

Hanway, Judge James, House, 658 Virginia Rd., Lane, 08001173

MARYLAND

Carroll County

Cold Saturday, 3251 Gamber Rd., Finksburg, 08001174

Harford County

MARTHA LEWIS (skipjack), (Chesapeake Bay Skipjack Fleet TR) Millard Tydings Memorial Park, Commerce St. at S. Strawberry La., Havre de Grace, 08001175

MASSACHUSETTS

Hampden County

Sanford Whip Factory, 330 Elm St., Hampden, 08001176

Hampshire County

Chesterfield Center Historic District, Main Rd., S. St., N. St., Bagg Rd., Bryant St., Chesterfield, 08001177

Middlesex County

Myrtle Baptist Church Neighborhood Historic District, (Newton MRA (AD)) Roughly Curve St. and Prospect St., Newtown, 08001178

MISSOURI

St. Louis Independent city

Berry, Chuck, House, 3137 Whittier St., St. Louis, 08001179

NEBRASKA

Lancaster County

Boulevards Historic District, Roughly bounded by S. St., Calvert and High Sts., S. 22nd and S. 24th Sts., Rock Island Trail, Sheridan Blvd., Lincoln, 08001180

NEW MEXICO

Santa Fe County

Santa Fe River Park Channel, (New Deal in New Mexico MPS) Santa Fe River Park, Santa Fe, 08001181

OREGON

Multnomah County

Bohnsen Cottages, 1918-1926 SW. Elm St. and 2412-2416 SW. Vista Ave., Portland, 08001182

RHODE ISLAND

Providence County

Manville Company Worker Housing Historic District, Bounded by Chestnut St., Angle St., Railroad St., Winter St., Fall St., Spring St., Park Way, Almeida Dr., Main St., Lincoln, 08001183

WASHINGTON

Clark County

Amboy United Brethren Church, 21416 NE 399th St., Amboy, 08001184

Island County

Site 45-IS-2, Address Restricted, Camano Island, 08001185

King County

Preston Community Clubhouse, 8625 310th Ave. SE, Preston, 08001186

WISCONSIN

Dane County

Kemp, John and Margarethe, Cabin, 6950 WI Hwy. 78, Mazomanie, 08001187

[FR Doc. E8-27394 Filed 11-18-08; 8:45 am]

BILLING CODE 4310-70-P